FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 28, 2018.

A. Federal Reserve Bank of Kansas City (Dennis Denney, Assistant Vice President) 1 Memorial Drive, Kansas City, Missouri 64198-0001:

1. Kelley V. Ayres, Minden, Nebraska, individually, as trustee of the Eloise R. Agee Non-Exempt Trust, Minden, Nebraska, and as a member of the Ayres Family Group; to retain voting shares of First Minden Financial Corporation (Company), and thereby indirectly retain shares of First Bank and Trust Company, both of Minden, Nebraska. Additionally, Lynda S. Ayres, Minden, Nebraska, to join the Ayres Family Group, which, acting in concert, controls Company.

B. Federal Reserve Bank of San Francisco (Gerald C. Tsai, Director, Applications and Enforcement) 101 Market Street, San Francisco, California 94105-1579:

1. Shirley W. Nelson 2014 Trust UA 3/05/2014, 9/06/2001 Shirley W. Nelson Revocable Trust, Alamo, California, Steven P. Nelson Jr., Summit Stock Trust UA 6/28/2018, Alamo, California, Bobby Westmoreland, Celina, Tennessee, and Lester Kenny Westmoreland, Celina, Tennessee; to retain shares of Summit Bancshares, Inc., and thereby indirectly retain shares of Summit Bank, both of Oakland, California.

Board of Governors of the Federal Reserve System, August 7, 2018.
Yao-Chin Chao,
Assistant Secretary of the Board.

[FR Doc. 2018-17215 Filed 8-9-18; 8:45 am]

BILLING CODE P